DEPARTMENT OF TRANSPORTATION

Office of the Secretary

14 CFR Parts 234, 259, and 399

[Docket No. OST-2007-0022]

RIN 2105-AD72

Enhancing Airline Passenger Protections

AGENCY: Office of the Secretary (OST), U.S. Department of Transportation (DOT).

ACTION: Extension of comment period on proposed rule.

SUMMARY: The Department is extending through March 9, 2009, the period for interested persons to submit comments to its proposed rule on enhancing airline passenger protections.

DATES: Comments must be received by March 9, 2009. Comments received after this date will be considered to the extent practicable.

ADDRESSES: You may file comments identified by the docket number DOT-OST-2007-0022 by any of the following methods:

• Federal eRulemaking Portal: go to http://www.regulations.gov and follow the online instructions for submitting written comments. A standard form has been created for those who wish to use it in submitting comments.

• Mail: Docket Management Facility, U.S. Department of Transportation, 1200 New Jersey Ave., SE., Room W12-140, Washington, DC 20590-0001.

• Hand Delivery or Courier: West Building Ground Floor, Room W12-140, 1200 New Jersey Ave., SE., between 9 a.m. and 5 p.m. ET, Monday through Friday, except Federal Holidays

• Fax: (202) 493-2251.

We strongly encourage you to use the standard form to submit comments. To access the form, go to http://www.regulations.gov and use the SEARCH DOCUMENTS field provided to input the docket number for this rulemaking. You can then search the index for “Public comment standard form.” This form may then be moved to your computer desktop, where you can type in your comments. You may then attach the form when you submit your comments to the docket.

If you do not use the standard form, you must include the agency name and docket number DOT-OST-2007-0022 or the Regulatory Identification Number (RIN) for the rulemaking at the beginning of your comment. All comments received will be posted without change to http://www.regulations.gov, including any personal information provided.

FOR FURTHER INFORMATION CONTACT: Daeleen Chesley or Blane Workie, Office of Assistant General Counsel for Aviation Enforcement and Proceedings, 1200 New Jersey Ave., SW., W96-414, Washington, DC 29590. Phone: 202-366-9342. TTY: 202-366-0511. Fax: 202-366-7152. E-mail: daeleen.chesley@dot.gov or blane.workie@dot.gov.

SUPPLEMENTARY INFORMATION: On December 8, 2008, 73 FR 74586, Dec. 8, 2008, the Department of Transportation (DOT or Department) published in the Federal Register a notice of proposed rulemaking (NPRM) that proposed to enhance airline passenger protections in the following ways: By requiring air carriers to adopt contingency plans for lengthy tarmac delays and incorporate them in their contracts of carriage, by requiring air carriers to respond to consumer problems, by deeming the continued operation of a flight that is chronically late to be unfair and deceptive in violation of 49 U.S.C. 41712, by requiring air carriers to publish information on flight delays on their Web sites, and by requiring air carriers to adopt customer service plans, incorporate these into their contracts of carriage, and audit their own compliance with their plans. Comments on the matters proposed are due 60 days after publication of the NPRM, or by February 6, 2009.

On December 30, 2008, the Air Transport Association (ATA) requested an extension of 60 days time in the comment period for this rulemaking. According to ATA, the extension of time is needed in order for it to develop a more complete and accurate cost-benefit analysis of the proposed rule than is contained in the Initial Regulatory Evaluation. In support of its request, ATA states that the Initial Regulatory Evaluation contains estimates on costs of the rule without input from affected carriers and that other estimates are vastly underestimated. In particular, ATA points to costs associated with litigation that it asserts will result if carriers are required to make contingency plans or customer service plans part of their contracts of carriage, costs of developing Web sites to contain information not currently required to be provided consumers, and costs on carriers and the public of any requirement dictating maximum tarmac delay times. ATA also points, in support of its request for additional time, to the coordination it claims will be necessary on the rule and notes that the comment period includes the end-of-year holiday. As of January 13, 2009, no comments were filed in response to ATA's request.

We have decided to grant an extension of 31 days time, or until March 9, 2009, for the public to comment on the NPRM. In doing so, we note that ATA and other interested parties already have had a significant amount of time to review and analyze the matters at issue in the NPRM, including providing the Department with the cost data it says is necessary. On November 18, 2008, 20 days prior to the December 8, 2008, publication of the NPRM in the Federal Register, which began the 60-day comment period, the Department published the proposal in its own public docket system and publicized that fact. Thus, all interested parties would have had 80 days to review and comment on the proposals, even without the additional 31 days we are now granting. Moreover, most of the issues encompassed by the NPRM are not by any means new to ATA and other interested parties, since they were first proposed for comment approximately 14 months ago in an Advance Notice of Proposed Rulemaking, issued November 15, 2007, on which ATA among others commented. Accordingly, the Department finds that good cause exists to extend the time for comments on the proposed rule from February 6, 2009, to March 9, 2009.

Issued in Washington, DC, this 29th day of January 2009, under authority assigned to me by 14 CFR 385.17 (c).
Neil R. Eisner,
Assistant General Counsel, Office of Regulation and Enforcement, U.S. Department of Transportation.

[FR Doc. E9-2548 Filed 2-5-09; 8:45 am]

BILLING CODE 4910-9X-P